DEPARTMENT OF HEALTH AND HUMAN SERVICES

National Institutes of Health

Submission for OMB Review; Comment Request; Customer/Partner Satisfaction Surveys; The NIDA Primary Care Physician Outreach Project

Summary: Under the provisions of Section 3507(a) (1) (D) of the Paperwork Reduction Act of 1995, the National Institute on Drug Abuse (NIDA), the National Institutes of Health has submitted to the Office of Management and Budget (OMB) a request to review and approve the information collection listed below. This proposed information collection was previously published in the Federal Register (on October 27, 2005 Vol. 70, No. 207, p61979), and allowed 60-days for public comment. No public comments were received. The purpose of this notice is to allow an additional 30 days for public comment.

Proposed Collection

Title: The NIDA Primary Care Physician Outreach Project.

Type of Information Collection Request: NEW.

Need and Use of Information Collection: This is a request for a four-year clearance to study the extent to which NIDA is (1) increasing awareness among primary care physicians and other medical professionals about drug addiction as a major public health issue, (2) increasing their awareness of NIDA and NIDA-funded research, and (3) providing them with the information resources needed to incorporate such research findings into their clinical practices. Primary care physicians and other medical professionals, especially those who care for adolescents, are front line individuals helping patients with drug abuse—or drug addiction-related health and mental health problems. Each has key roles in obtaining, disseminating, and applying drug abuse and addiction resource materials in clinical practice. This effort is made according to Executive Order 12862, which directs Federal agencies that provide significant services directly to the public to survey customers to determine the kind and quality of services they want and their level of satisfaction with existing services.

Formative, process and outcome evaluations using a multi-method (surveys, focus groups, case studies) will be employed to determine the most appropriate resources and also the usefulness of the materials developed for physicians and other medical professionals. Measures will include the following variables: The information needs and learning styles and preferences of physicians and other medical professionals; their knowledge/awareness of NIDA and the NIDA resources developed for them; their use of the resources developed by NIDA; and ways to strengthen NIDA's knowledge dissemination activities.

Frequency of Response: This project will be conducted annually or biennially.

Affected Public: Individuals, organizations, and businesses.

Type of Respondents: Physicians, physician assistants, nurses, medical office managers, hospital/clinic based health educators, and hospital/clinic based social workers. The annual reporting burden is calculated as follows:

Estimated Total Annual Number of Respondents: 1118.

Estimated Number of Responses per Respondent: 2.

Average Burden Hours per Response: 0.39.

Estimated Total Annual Burden Hours Requested: 872.24.

There are no Capital Costs to report. There are no Operating or Maintenance Costs to report. The estimated annualized burden is summarized below.

Respondents | Estimated number of respondents | Estimated number of responses per respondent | Average burden hours per response | Estimated total burden hours
Physicians | 2873 | 2 | 0.39 | 2240.94
Physician Assistants | 320 | 2 | 0.39 | 249.6
Nurses | 320 | 2 | 0.39 | 249.6
Medical Office Managers | 320 | 2 | 0.39 | 249.6
Hospital/Clinic Based Health Educators | 320 | 2 | 0.39 | 249.6
Hospital/Clinic Based Social Workers | 320 | 2 | 0.39 | 249.6
Total | 4,473 |  |  | 3,488.94
Annualized Totals (clearance for 4-year project) | 1,118 |  |  | 872.24

Request for Comments: Written comments and/or suggestions from the public and affected agencies are invited on one or more of the following points: (a) Whether the proposed collection of information is necessary for the proper performance of the functions of the agency, including whether the information shall have practical utility; (b) The accuracy of the agency's estimate of the burden of the proposed collection of information; (c) Ways to enhance the quality, utility, and clarity of the information to be collected; and (d) Ways to minimize the burden of the collection of information on respondents, including through the use of automated collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Jan Lipkin, Project Officer, National Institute on Drug Abuse, NIDA/NIH/DHHS, 6001 Executive Boulevard, Room 5219, Bethesda, MD 20852; or call non-toll-free number (301) 443-1124; fax (301) 443-7397; or e-mail your request, including your address to: jlipkin@nida.nih.gov.

Comments Due Date: Comments regarding this information collection are best assured of having their full effect if received within 30-days of the date of this publication.

Dated: July 14, 2006.
Laura Rosenthal,
Associate Director for Management, National Institute on Drug Abuse.

[FR Doc. E6-11614 Filed 7-20-06; 8:45 am]

BILLING CODE 4140-01-P